NUCLEAR REGULATORY COMMISSION

Sunshine Federal Register Notice

Agency Holding the Meetings: Nuclear Regulatory Commission.

Date: Weeks of August 18, 25, September 1, 8, 15, 22, 2008.

Place: Commissioners' Conference Room, 11555 Rockville Pike, Rockville, Maryland.

Status: Public and closed.

Week of August 18, 2008

There are no meetings scheduled for the week of August 18, 2008.

Week of August 25, 2008—Tentative

There are no meetings scheduled for the week of August 25, 2008.

Week of September 1, 2008—Tentative

There are no meetings scheduled for the week of September 1, 2008.

Week of September 8, 2008—Tentative

There are no meetings scheduled for the week of September 8, 2008.

Week of September 15, 2008—Tentative

There are no meetings scheduled for the week of September 15, 2008.

Week of September 22, 2008—Tentative

There are no meetings scheduled for the week of September 22, 2008.

*The schedule for Commission meetings is subject to change on short notice. To verify the status of meetings, call (recording)—(301) 415-1292. Contact person for more information: Michelle Schroll, (301) 415-1662.

Additional Information

By a vote of 4-0 on August 11, 2008, the Commission determined pursuant to U.S.C. 552b(e) and § 9.107(a) of the Commission's rules that Affirmation of “In the Matter of Pa'ina Hawaii, LLC, Materials License Application Commission Sua Sponte Review of Board Decision to Admit Contention on Potential Health Effects of Irradiated Foods”, and “U.S. Department of Energy (High Level Waste Repository)—State of Nevada's Request for Extension of Time to File Request for Hearing—SRM-SECY-08-0072” be held August 13, 2008, and on less than one week's notice to the public.

By a vote of 4-0 on August 11 & 12, 2008, the Commission determined pursuant to U.S.C. 552b(e) and § 9.107(a) of the Commission's rules that Affirmation of “Dominion Nuclear Connecticut, Inc. (Millstone Power Station, Unit 3), Connecticut Coalition Against Millstone and Nancy Burton Appeal of LBP-08-09” be held August 13, 2008, and on less than one week's notice to the public.

Affirmation of “U.S. Department of Energy (High Level Waste Repository)—Petitions of the State of Nevada and Dr. Jacob Paz to Reject the Department of Energy's (DOE) Application to Construct a Geologic Repository at Yucca Mountain, Nevada (Tentative)” was announced on July 15, 2008, to be held on July 23, 2008 and subsequently was postponed. On August 12, 2008, the Affirmation was rescheduled and announced to be held on August 13, 2008. This Affirmation has been postponed again and will be rescheduled.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 13, 2008.
R. Michelle Schroll,
Office of the Secretary.

[FR Doc. E8-19139 Filed 8-15-08; 8:45 am]

BILLING CODE 7590-01-P